DEPARTMENT OF THE INTERIOR

National Park Service

Notice of Assessment of Suitability and Non-Suitability for Further Study of Lands Within Redwood National Park for Consideration as Wilderness Areas

SUMMARY: Pursuant to Civil Action No. 03-04 (RMC), The Wilderness Society v. Gale Norton, January 10, 2005, and in accordance with National Park Service (NPS) Management Policies 2001 section 6.2.1, the NPS has completed a Wilderness Suitability Assessment to determine if lands within Redwood National Park meet criteria indicating suitability for preservation as wilderness.

The Redwood National Park staff reviewed management related documents that discussed potential wilderness, reviewed existing resource conditions, and weighed this information against Primary Suitability Criteria, section 6.2.1.1, of Management Policies 2001.

Since the expansion of Redwood National Park in 1978, the park has undertaken an intense watershed rehabilitation program with a focus on removing roads. Since park expansion in 1978, about 219 miles of road have been removed and another 123 miles are proposed for removal within the Redwood Creek portion of the park. The 1999 Final General Management/General Plan and FEIS for Redwood National and State Parks states that until watershed restoration activities are completed that no wilderness area will be proposed. The 1979 General Management Plan concluded that a wilderness recommendation would be premature until rehabilitation efforts are completed because of the continuing need for large construction vehicles and the maintenance and heavy use of roads, activities inconsistent with wilderness designation.

Based on these findings, the NPS has concluded that the lands within Redwood National Park do not warrant further study for wilderness evaluation at this time. However, following successful completion of watershed restoration activities in 12-15 years, or during the next General Management Plan effort, reconsideration of wilderness suitability for certain tracts of land within Redwood Creek could be warranted.

ADDRESSES: A copy of the Wilderness Suitability Assessment can be obtained by writing to: Superintendent, Redwood National Park, 1111 Second Street, Crescent City, CA 95531.

FOR FURTHER INFORMATION CONTACT: Requests for further information on this Determination should be directed to: Superintendent, Redwood National Park, 1111 Second Street, Crescent City, CA 95531.

SUPPLEMENTARY INFORMATION: The assessment standards outlined in NPS Management Policies (2001) to determine if a roadless, undeveloped area is suitable for preservation as wilderness are that it is over 5000 acres in size or of sufficient size to make practicable its preservation and use in an unimpaired condition, and meets five wilderness character criteria: (1) The earth and its community of life are untrammeled by humans, where humans are visitors and do not remain; (2) the area is undeveloped and retains its primeval character and influence, without permanent improvements or human habitation; (3) the area generally appears to have been affected primarily by the forces fo nature, with the imprint of humans' work substantially unnoticeable; (4) the area is protected and managed so as to preserve its natural conditions; and (5) the area offers outstanding opportunities for solitude or a primitive and unconfined type of recreation.

Public notices announcing the park's intention to conduct this suitability assessment were placed in the Times Standard Newspaper in Humboldt County on December 7, 8 and 9, 2005, and in the Del Norte Triplicate, in Del Norte County on December 13, 14, and 15, 2005.

Dated: January 6, 2006.
Steve P. Martin,
Deputy Director.

[FR Doc. 06-908 Filed 1-31-06; 8:45 am]

BILLING CODE 4312-GB-M